DEPARTMENT OF ENERGY

Federal Energy Regulatory Commission

Combined Notice of Filings

Take notice that the Commission has received the following Natural Gas Pipeline Rate and Refund Report filings:

Filings Instituting Proceedings

Docket Number: PR19-26-000.

Applicants: Columbia Gas of Ohio, Inc.

Description: Tariff filing per 284.123(b),(e)/: Revised Statement of Operating Conditions to be effective11/29/2018.

Filed Date: 12/14/18.

Accession Number: 201812145076.

Comments Due: 5 p.m. ET 1/4/19.

Docket Number: RP19-206-001.

Applicants: Mississippi Canyon Gas Pipeline, L.C.C.

Description: Tariff filing per 260,402:MCGP further extension request to be effective N/A.

Accession Number: 20181214-5201.

File Date: 12/14/18.

Comments Due: 5 p.m. ET 12/19/18.

Docket Numbers: RP19-460-000.

Applicants: Bear Creek Storage Company, L.L.C.

Description: Bear Creek Storage Company, L.L.C. submits tariff filing per 154.203: Annual Fuel Assessment 2018 to be effective N/A.

Filed Date: 12/13/2018.

Accession Number: 20181213-5032.

Comment Date: 5:00 p.m. ET12/26/18.

Docket Numbers: RP19-461-000.

Applicants: UGI Mt. Bethel Pipeline, LLC.

Description: UGI Mt. Bethel Pipeline, LLC submits tariff filing per 260.402: 501-G Filing to be effective N/A.

Accession Number: 20181213-5128.

Comment Date: 5:00 p.m. ET12/26/18.

Docket Numbers: RP19-462-000.

Applicants: UGI Sunbury, LLC.

Description: UGI Sunbury, LLC submits tariff filing per 260.402: 501-G Filing to be effective N/A.

Filed Date: 12/13/2018.

Accession Number: 20181213-5129.

Comment Date: 5:00 p.m. ET 12/2618.

Docket Numbers: RP19-463-000.

Applicants: Algonquin Gas Transmission, LLC.

Description: Algonquin Gas Transmission, LLC submits tariff filing per 154.204: Negotiated Rate—Yankee to Direct Energy 798335 eff 12-14-18 to be effective 12/14/2018.

Filed Date: 12/13/2018.

Accession Number: 20181213-5137.

Comment Date: 5:00 p.m. ET12/26/18.

Docket Numbers: RP19-464-000.

Applicants: Algonquin Gas Transmission, LLC.

Description: § 4(d) Rate Filing: Negotiated Rate—Perm release from Dominion to Manchester to be effective 12/14/2018.

Filed Date: 12/14/18.

Accession Number: 20181214-5004.

Comments Due: 5 p.m. ET 12/26/18.

Docket Numbers: RP19-465-000.

Applicants: Transcontinental Gas Pipe Line Company.

Description: § 4(d) Rate Filing: Negotiated Rates—MarketLink Permt Rls—Dominion Fairless to be effective 12/14/2018.

Filed Date: 12/14/18.

Accession Number: 20181214-5064.

Comments Due: 5 p.m. ET 12/26/18.

Docket Numbers: RP19-466-000.

Applicants: Algonquin Gas Transmission, LLC.

Description: § 4(d) Rate Filing: Negotiated Rate—Yankee to Direct Energy 798340 eff 12-15-18 to be effective 12/15/2018.

Filed Date: 12/14/18.

Accession Number: 20181214-5086.

Comments Due: 5 p.m. ET 12/26/18.

Docket Numbers: RP19-467-000.

Applicants: Iroquois Gas Transmission System, L.P.

Description: § 4(d) Rate Filing: 121418 Negotiated Rates—Consolidated Edison Energy H-2275-89 to be effective12/15/2018.

Filed Date: 12/14/18.

Accession Number: 20181214-5164.

Comments Due: 5 p.m. ET 12/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2018.
Nathaniel J. Davis, Sr.,
Deputy Secretary.

[FR Doc. 2018-27733 Filed 12-20-18; 8:45 am]

BILLING CODE 6717-01-P